CORPORATION FOR NATIONAL AND COMMUNITY SERVICE

Information Collection; Submission for OMB Review, Comment Request

AGENCY: Corporation for National and Community Service.

ACTION: Notice.

SUMMARY: The Corporation for National and Community Service (hereinafter the “Corporation”), has submitted a public information collection request (ICR) entitled the Application Instructions Training and Technical Assistance Cooperative Agreements form to the Office of Management and Budget (OMB) for review and approval in accordance with the Paperwork Reduction Act of 1995, Public Law 104-13, (44 U.S.C. Chapter 35). Copies of this ICR, with applicable supporting documentation, may be obtained by calling the Corporation for National and Community Service, Ralph Morales at (202) 606-6829 Individuals who use a telecommunications device for the deaf (TTY-TDD) may call (202) 565-2799 between 8:30 a.m. and 5 p.m. eastern time, Monday through Friday.

ADDRESSES: Comments may be submitted, identified by the title of the information collection activity, to the Office of Information and Regulatory Affairs, Attn: Ms. Katherine Astrich, OMB Desk Officer for the Corporation for National and Community Service, by any of the following two methods within 30 days from the date of publication in this Federal Register:

(1) By fax to: (202) 395-6974, Attention: Ms. Katherine Astrich, OMB Desk Officer for the Corporation for National and Community Service; and

(2) Electronically by e-mail to: Katherine_T._Astrich@omb.eop.gov.

SUPPLEMENTARY INFORMATION: The OMB is particularly interested in comments which:

• Evaluate whether the proposed collection of information is necessary for the proper performance of the functions of the Corporation, including whether the information will have practical utility;

• Evaluate the accuracy of the agency's estimate of the burden of the proposed collection of information, including the validity of the methodology and assumptions used;

• Propose ways to enhance the quality, utility, and clarity of the information to be collected; and

• Propose ways to minimize the burden of the collection of information on those who are to respond, including through the use of appropriate automated, electronic, mechanical, or other technological collection techniques or other forms of information technology, e.g., permitting electronic submissions of responses.

Comments

A 60-day public comment Notice was published in the Federal Register on April 28, 2008. This comment period ended June 28, 2008. No public comments were received from this notice.

Description: The Corporation is seeking approval of the Application Instructions Training and Technical Assistance Cooperative Agreements. The application instructions will be used by potential applicants to apply for funding to provide training and technical assistance to Corporation grantees and subgrantees. Applications will be reviewed by the Corporation and providers selected through a rigorous review process.

The Application Instructions for Training and Technical Assistance Cooperative Agreements provides the submission and compliance requirements, application requirements and selection criteria of potential applicants interested in providing training and technical assistance to Corporation grantees and subgrantees. The instructions also provide the Corporation reporting requirements of successful applicants.

Type of Review: New Information Collection.

Agency: Corporation for National and Community Service.

Title: Application Instructions Training and Technical Assistance Cooperative Agreements.

OMB Number: 3045-0105.

Agency Number: None.

Affected Public: First-time grantees or current grantees re-competing for funding.

Total Respondents: 56.

Frequency: One (1) time.

Average Time per Response: 11.75 hours. Estimated at 16.5 hours for first-time respondents; 7 hours for current providers.

Estimated Total Burden Hours: 658 hours.

Total Burden Cost (capital/startup): None.

Total Burden Cost (operating/maintenance): None.

Dated: June 30, 2008.
Gretchen Van der Veer,
Director, Office of Leadership Development and Training.

[FR Doc. E8-16334 Filed 7-16-08; 8:45 am]

BILLING CODE 6050-$$-P